FEDERAL ACCOUNTING STANDARDS ADVISORY BOARD

Notice of Public Hearing and Meeting Schedule for 2007

Board Action: Pursuant to 31 U.S.C. 3511(d), the Federal Advisory Committee Act (Pub. L. 92-463), as amended, and the FASAB Rules of Procedure, as amended in April 2004, notice is hereby given that the Federal Accounting Standards Advisory Board (FASAB) will hold a public hearing in conjunction with its September 26, 2006 Board meeting. The public hearing will begin at 9 a.m. and will address the exposure draft (ED) entitled Definition and Recognition of Elements of Accrual-Basis Financial Statements. Those interested in testifying should contact Ms. Terri Pinkney, Administrative Assistant, no later than one week prior to the hearing. Ms. Pinkney can be reached at 202-512-7350 or via e-mail at pinkneyt@fasab.gov. Also, they should at the same time provide a short biography and written copies of their testimony. The ED is available on the FASAB Web site http://www. fasab.gov under Exposure Drafts.

Notice is also hereby given that the Federal Accounting Standards Advisory Board (FASAB) will meet on the following dates in room 7C13 of the U.S. Government Accountability Office (GAO) Building (441 G Street, NW.) unless otherwise noted:

—Wednesday and Thursday, January 17 and 18, 2007.

—Wednesday and Thursday, March 21 and 22, 2007.

—Wednesday and Thursday, May 23 and 24, 2007.

—Wednesday and Thursday, July 18 and 19, 2007.

—Wednesday and Thursday, September 19 and 20, 2007.

—Wednesday and Thursday, November 14 and 15, 2007.

The purpose of the meetings are to discuss issues related to:

—FASB's conceptual framework,

—Social Insurance,

—Application of the Liability Definition,

—The Federal Entity,

—Natural Resources,

—Inter-entity Costs,

—Technical Agenda, and

—Any other topics as needed.

A more detailed agenda can be obtain from the FASAB Web site (http://www.fasab.gov.) one week prior to each meeting.

Any interested person may attend the meetings as an observer. Board discussion and reviews are open to the public. GAO Building security requires advance notice of your attendance. Please notify FASAB of your planned attendance by calling 202-512-7350 at least one day prior to the respective meeting.

For Further Information Contact: Wendy M. Comes, Executive Director, 441 G St., NW., Mail Stop 6K17V, Washington, DC 20548, or call (202) 512-7350.

Authority: Federal Advisory Committee Act. Pub. L. 92-463.

Dated: July 7, 2006.
Charles Jackson,
Federal Register Liaison Officer.

[FR Doc. 06-6146 Filed 7-11-06; 8:45 am]

BILLING CODE 1610-01-M